NUCLEAR REGULATORY COMMISSION

Draft Regulatory Guide; Issuance, Availability

The Nuclear Regulatory Commission has issued for public comment a draft of a new guide in its Regulatory Guide Series, with its related Standard Review Plan section. The Regulatory Guide Series has been developed to describe and make available to the public such information as methods acceptable to the NRC staff for implementing specific parts of the NRC's regulations, techniques used by the staff in evaluating specific problems or postulated accidents, and data needed by the staff in its review of applications for permits and licenses.

The draft guide, temporarily identified by its task number, DG-1096 (which should be mentioned in all correspondence concerning this draft guide), is titled “Transient and Accident Analysis Methods.” This guide is being developed to describe a process that is acceptable to the NRC staff for the development and assessment of evaluation models that may be used to analyze transient and accident behavior.

Draft Standard Review Plan Section 15.0.2, “Review of Analytical Computer Codes,” is being developed to describe the review process for NRC staff and acceptance criteria for analytical models and computer codes used by licensees to analyze accident and transient behavior. This draft Standard Review Plan (SRP) section is intended to become Section 15.0.2 of NUREG-0800, “Standard Review Plan for the Review of Safety Analysis Reports for Nuclear Power Plants.”

This draft guide and draft standard review plan section have not received complete staff approval and do not represent an official NRC staff position.

Comments on both documents may be accompanied by relevant information or supporting data. Written comments may be submitted to the Rules and Directives Branch, Office of Administration, U.S. Nuclear Regulatory Commission, Washington, DC 20555. Copies of comments received may be examined at the NRC Public Document Room, 11555 Rockville Pike, Rockville, MD; the PDR's mailing address is USNRC PDR, Washington, DC 20555; telephone (301) 415-4737 or (800) 397-4209; fax (301) 415-3548; email <PDR@NRC.GOV>. Comments will be most helpful if received by February 15, 2001.

You may also provide comments or access these documents via the NRC's interactive rulemaking website through the NRC home page (http://www.nrc.gov). This site provides the availability to upload comments as files (any format), if your web browser supports that function. For information about the interactive rulemaking website, contact Ms. Carol Gallagher, (301) 415-5905; e-mail CAG@NRC.GOV. Electronic copies of this draft guide, under Accession Number ML003770849, are available in NRC's Public Electronic Reading Room, which can also be accessed through NRC's web site, WWW.NRC.GOV. For information about the draft guide and the related documents, contact Mr. N. Lauben at (301) 415-6762; e-mail GNL1@NRC.GOV. For information about the draft standard review plan section, contact Mr. J.L. Staudenmeier at (301) 415-2869, email JLS4@NRC.GOV; or Mr. M.A. Shuaibi at (301) 415-2859, email MAS4@NRC.GOV.

Although a time limit is given for comments on this draft guide, comments and suggestions in connection with items for inclusion in guides currently being developed or improvements in all published guides are encouraged at any time.

Regulatory guides and standard review plan sections are available for inspection at the Commission's Public Document Room, 11555 Rockville Pike, Rockville, MD. Requests for single copies of draft or final guides or SRP sections (which may be reproduced) or for placement on an automatic distribution list for single copies of future draft guides in specific divisions should be made in writing to the U.S. Nuclear Regulatory Commission, Washington, DC 20555, Attention: Reproduction and Distribution Services Section; or by fax to (301) 415-2289, or by email to DISTRIBUTION@NRC.GOV. Telephone requests cannot be accommodated. Regulatory guides are not copyrighted, and Commission approval is not required to reproduce them.

(5 U.S.C. 552(a))

Dated at Rockville, Maryland, this 28th day of November 2000.
For the Nuclear Regulatory Commission.
Farouk Eltawila,
Acting Director, Division of Risk Analysis and Applications, Office of Nuclear Regulatory Research.

[FR Doc. 00-31736 Filed 12-12-00; 8:45 am]

BILLING CODE 7590-01-P